GENERAL SERVICES ADMINISTRATION

Multiple Award Schedule Advisory Panel; Notification of Public Advisory Panel Meetings

AGENCY: U.S. General Services Administration (GSA).

ACTION: Notice.

SUMMARY: The U.S. General Services Administration (GSA) Multiple Award Schedule Advisory Panel (MAS Panel), a Federal Advisory Committee, will hold public meetings on the following dates: Monday, June 16, 2008; Tuesday, June 17 2008; Monday, July 21, 2008; and Monday, August 18, 2008. GSA utilizes the Schedules program to establish long-term Governmentwide contracts with responsible firms to provide Federal, State, and local government customers with access to a wide variety of supplies (products) and services.

The MAS Panel was established to develop advice and recommendations on MAS program pricing policies, provisions, and procedures in the context of current commercial pricing practices. For the next 3 to 4 meeting dates, the Panel plans to focus on three areas: (1) STAKEHOLDER EXPECTATIONS—what are our stakeholder expectations of the MAS program; what should be the purpose of the MAS program; and is it structured to serve our stakeholder needs; (2) ROLES AND RESPONSIBILITIES—what should be the role and responsibilities of the GSA contracting officer and that of the ordering agency contracting officer; the need to eliminate duplication at the task order level those pricing determinations made by the GSA contracting officer; and, the management and oversight responsibilities, such as training and assuring consistency in policy; and (3) FAIR AND REASONABLE PRICE DETERMINATIONS—what are the stakeholder expectations for schedule prices; should the GSA contracting officer or the ordering agency contracting officer make the fair and reasonable price determination; the presumption that the schedule contract negations result in fair and reasonable prices; and orders issued in compliance with FAR 8.4 ordering procedures result in best value.

To that end, the Panel would like to hear from the many stakeholders of the MAS program. The MAS program stakeholders include, but not limited to, ordering agency contracting officers, customer agency contracting officer, GSA contracting officers, schedule contract holders, Congress, program managers, General Accountability Office, and agency Inspector General Offices. The panel is particularly interested in stakeholder views as to how the issues discussed above may relate differently to the purchase of goods, services, or goods and services that are configured to propose an integrated solution to an agency's needs.

I. STAKEHOLDER EXPECTATIONS

Discussions and presentations on STAKEHOLDER EXPECTATIONS will take place on Monday, June 16, 2008, and Tuesday, June 17, 2008. The meeting start time for each day is 9:00 a.m., and they will adjourn no later than 5:00 p.m.

Monday, June 16, 2008 Location & Address: The meeting will be held at the American Institute of Architects (AIA) Building, 2nd Floor, 1725 New York Avenue, NW., Washington, DC. The building is located at the corner of 18th Street and New York Avenue, NW. Entrance to the building is on either 18th Street, or New York Avenue. The AIA is within walking distance from the Farragut North Metro stop.

Tuesday, June 17, 2008 Location & Address: The meeting will be held at the Jury's Washington Hotel, Westbury Room, 1500 New Hampshire Avenue, NW., Washington, DC. The hotel is within walking distance from the Dupont Circle Metro stop.

II. ROLES AND RESPONSIBILITIES

Discussions and presentations on ROLES AND RESPONSIBILITIES will take place on Monday, July 21, 2008.

Monday, July 21, 2008 Location and Address: The meeting will be held at the American Institute of Architects (AIA) Building, 2nd Floor, 1725 New York Avenue, NW., Washington, DC. The building is located at the corner of 18th Street and New York Avenue, NW. Entrance to the building is on either 18th Street, or New York Avenue. The meeting start time is 9:00 a.m., and it will adjourn no later than 5:00 p.m. The AIA is within walking distance from the Farragut North Metro stop.

III. FAIR AND REASONABLE PRICE DETERMINATIONS

Discussions and presentations on FAIR AND REASONABLE PRICE DETERMINATIONS will take place on Monday, August 18, 2008.

Monday, August 18, 2008 Location and Address: The meeting will be held at the American Institute of Architects (AIA) Building, 2nd Floor, 1725 New York Avenue, NW., Washington, DC. The building is at the corner of 18th Street and New York Avenue, NW. Entrance to the building is on either 18th Street, or New York Avenue. The meeting start time is 9:00 a.m., and it will adjourn no later than 5:00 p.m. The AIA is within walking distance from the Farragut North Metro stop.

For presentations before the Panel, the following guidance is provided:

Oral comments: Requests to present oral comments at this meeting must be in writing (email or fax) and received by the Designated Federal Official, Pat Brooks, at the below address ten (10) business days prior to the meeting date. Each individual or group requesting an oral presentation will be limited to a total time of five minutes. Speakers should bring at least 50 copies of their comments for distribution to the reviewers and public at the meeting.

Written Comments: Written comments must be received ten (10) business days prior to the meeting date so that the comments may be provided to the Panel for their consideration prior to the meeting. Comments should be supplied to Ms. Brooks at the address/contact information noted below in the following format: one hard copy with original signature and one electronic copy via email in Microsoft Word.

Subsequent meeting dates, locations, and times will be published at least 15 days prior to the meeting date.

FOR FURTHER INFORMATION CONTACT: Information on the Panel meetings, agendas, and other information can be obtained at www.gsa.gov/masadvisorypanel or you may contact Ms. Pat Brooks, Designated Federal Officer, Multiple Award Schedule Advisory Panel, U.S. General Services Administration, 2011 Crystal Drive, Suite 911, Arlington, VA 22205; telephone 703 605-3406, Fax 703 605-3454; or via email at mas.advisorypanel@gsa.gov.

AVAILABILITY OF MATERIALS: All meeting materials, including meeting agendas, handouts, public comments, and meeting minutes will be posted on the MAS Panel Web site at www.gsa.gov/masadvisorypanel or www.gsa.gov/masap.

MEETING ACCESS: Individuals requiring special accommodations at any of these meetings should contact Ms. Brooks at least ten (10) business days prior to the meeting date so that appropriate arrangements can be made.

Dated: May 28, 2008.
David A. Drabkin,
Acting Chief Acquisition Officer, Office of the Chief Acquisition Officer, General Services Administration.

[FR Doc. E8-12316 Filed 6-2-08; 8:45 am]

BILLING CODE 6820-EP-S